ENVIRONMENTAL PROTECTION AGENCY

40 CFR Part 52

[EPA-R06-OAR-2010-0620; FRL-9199-7]

Approval and Promulgation of Air Quality Implementation Plans; Texas; Revisions to the New Source Review (NSR) State Implementation Plan (SIP); Prevention of Significant Deterioration (PSD)

AGENCY: Environmental Protection Agency (EPA).

ACTION: Proposed rule.

SUMMARY: EPA is proposing to approve revisions to the Texas PSD State Implementation Plan (SIP). EPA proposes to approve a SIP revision submitted February 1, 2006, as amended by a SIP revision submitted July 16, 2010. This action makes no significant changes to the Texas PSD SIP; it merely approves reorganization and renumbering of the Texas PSD SIP rules. Further, the July 16, 2010 submission corrects certain deficiencies identified in EPA's September 23, 2009 proposed disapproval. The EPA proposes to approve these revisions pursuant to section 110 and part C of the Federal Clean Air Act (Act or CAA).

DATES: Written comments must be received on or before October 15, 2010.

ADDRESSES: Comments may be mailed to Mr. Stanley M. Spruiell, Air Permits Section (6PD-R), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Stanley M. Spruiell, Air Permits Section (6PD-R), Environmental Protection Agency, Region 6, 1445 Ross Avenue, Suite 700, Dallas, Texas 75202-2733, telephone (214) 665-7212; fax number 214-665-7263; e-mail address Spruiell.stanley@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the rules section of this Federal Register.

Dated: August 31, 2010.
Al Armendariz,
Regional Administrator, Region 6.

[FR Doc. 2010-22671 Filed 9-14-10; 8:45 am]

BILLING CODE 6560-50-P